NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208)—NSCL Site Visit

Date and Time: April 13, 2017; 8:30 a.m.-6:30 p.m.; April 14, 2017; 8:30 a.m.-1:00 p.m.

Place: Michigan State University, East Lansing, MI 48824-1321.

Type of Meeting: Part-Open.

Contact Person: Allena Opper, Program Director for Nuclear Physics, Division of Physics, National Science Foundation, 4201 Wilson Blvd., Room 1015, Arlington, VA 22230; Telephone: (703) 292-8958.

Purpose of Meeting: Site visit to provide an evaluation of the progress of the projects at the host site for the Division of Physics at the National Science Foundation.

Agenda

April 13, 2017; 8:30 a.m.-6:30 p.m.

8:30 a.m.-9:15 a.m. Executive Session—Closed Session

9:15 a.m.-10:15 a.m. Overview of NSCL Laboratory and the Experimental Research

10:30 a.m.-11:30 a.m. Operations & Projects Overview, Diversity, Education and Mentoring

11:30 a.m.-12:00 p.m. Science A: Evolution of Nuclear Structure

12:00 p.m.-1:00 p.m. Lunch with graduate students

1:15 p.m.-2:15 p.m. Science B; C; D: Nuclear Astrophysics, Equation of the state reaction studies and Fundamental symmetries

3:00 p.m.-4:00 p.m. Science E; F; G: Re-accelerator Beam Astrophysics; Structure and Reactions; Accelerator Physics

4:00 p.m.-4:45 p.m. Tour

5:00 p.m.-5:45 p.m. Meeting with the MSU President Lou Anna Simon

5:45 p.m.-6:30 p.m. Executive Session—Closed Session

April 14, 2017; 8:30 a.m.-1:00 p.m.

8:30 a.m.-9:00 a.m. Executive Session—Closed Session

9:00 a.m.-9:30 a.m. Homework presentation and discussion

9:30 a.m.-11:30 a.m. Executive Session—Closed Session

11:30 a.m.-12:00 p.m. Closeout Session

12:00 p.m.-1:00 p.m. Adjourn

Reason for Closing: Topics to be discussed and evaluated during the site review will include information of a proprietary or confidential nature, including technical information and information on personnel. These matters are exempt under 5 U.S.C. 552b(c), (4) and (6) of the Government in the Sunshine Act.

Dated: March 13, 2017.
Crystal Robinson,
Committee Management Officer.

[FR Doc. 2017-05228 Filed 3-15-17; 8:45 a.m.]

BILLING CODE 7555-01-P